DEPARTMENT OF TRANSPORTATION

Federal Aviation Administration

14 CFR Part 39

[Docket No. FAA-2005-20688; Directorate Identifier 2004-NM-165-AD; Amendment 39-14551; AD 2006-07-24]

RIN 2120-AA64

Airworthiness Directives; Boeing Model 757-200 and -300 Series Airplanes

AGENCY: Federal Aviation Administration (FAA), Department of Transportation (DOT).

ACTION: Final rule.

SUMMARY: The FAA is adopting a new airworthiness directive (AD) for certain Boeing Model 757-200 and -300 series airplanes. This AD requires replacing certain electrical panels with certain new panels. This AD results from a report of some loose wire terminations in the P50 panel that caused intermittent indications in the flight deck. We are issuing this AD to prevent intermittent indications in the flight deck, incorrect circuitry operation in the panels, and airplane system malfunctions that may adversely affect the alternate flaps, alternate gear extension, and fire extinguishing.

DATES: This AD becomes effective May 16, 2006.

The Director of the Federal Register approved the incorporation by reference of certain publications listed in the AD as of May 16, 2006.

ADDRESSES: You may examine the AD docket on the Internet at http://dms.dot.gov or in person at the Docket Management Facility, U.S. Department of Transportation, 400 Seventh Street SW., Nassif Building, Room PL-401, Washington, DC.

Contact Boeing Commercial Airplanes, P.O. Box 3707, Seattle, Washington 98124-2207, for service information identified in this AD.

FOR FURTHER INFORMATION CONTACT: Louis Natsiopoulos, Aerospace Engineer, Systems and Equipment Branch, ANM-130S, FAA, Seattle Aircraft Certification Office, 1601 Lind Avenue, SW., Renton, Washington 98055-4056; telephone (425) 917-6478; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 757-200 and -300 series airplanes. That NPRM was published in the Federal Register on March 23, 2005 (70 FR 14592). That NPRM proposed to require replacing certain electrical panels with certain new panels.

Comments

We provided the public the opportunity to participate in the development of this AD. We have considered the comments received.

Support for the NPRM

The Boeing Company and American Airlines support the NPRM.

Request to Address Defective Parts Manufacturer Approval (PMA) Parts

The Modification and Replacement Parts Association (MARPA) requests that the NPRM be revised to cover possible defective PMA alternative parts and to identify the manufacturer of the defective electrical panels, so that those defective PMA parts also are subject to the NPRM. MARPA states that the electrical panels are identified in the NPRM by certain cryptic numbers such as P1-1, P54, etc. MARPA is not clear whether these are vendor part numbers or some other designation such as location or function.

MARPA also states that there are a number of electrical panels known to have been approved via the PMA route. However, MARPA adds that it is not possible to determine if such alternatives exist in this case without knowing the name of the actual manufacturer and its part number and/or the corresponding type certificate holder part number. In addition, MARPA states that, in general, service bulletins almost exclusively refer to the original equipment manufacturer's components and exclude possible PMA alternatives. MARPA further states that suppliers or repair facilities usually do not have access to the proprietary service bulletins and may not be able to identify defective components. In such cases, defective units could be returned to service or supplied to operators.

We partially agree. We agree with MARPA's general request that, if we know that an unsafe condition also exists in PMA parts, an AD should address those parts, as well as the original parts. However, in the case of this AD, the unsafe condition is the result of a manufacturing error at The Boeing Company, not a design deficiency and thus, this AD does not affect PMA parts.

MARPA's remarks are timely in that the Transport Airplane Directorate currently is in the process of reviewing this issue as it applies to transport category airplanes. We acknowledge that there may be other ways of addressing this issue to ensure that unsafe PMA parts are identified and addressed. Once we have thoroughly examined all aspects of this issue, including input from industry, and have made a final determination, we will consider whether our policy regarding addressing PMA parts in ADs needs to be revised.

We do not agree with MARPA's request to identify the manufacturer and part numbers of the subject electric panels. As explained previously, we have determined that the identified unsafe condition is the result of a manufacturing error, not a design deficiency. Since the AD does not affect PMA parts, and The Boeing Company's part numbers of the affected P1-1, P1-3, P3-1, P3-3, P50, and P54 panels are identified in paragraph 2., “MATERIAL INFORMATION,” of the applicable Boeing special attention service bulletin listed in table 1 of the AD, it is unnecessary to specify PMA part numbers in the AD. Therefore, we have made no change to the AD in this regard.

Request To Revise Work Hour Estimate

The Air Transport Association (ATA) of America, on behalf of one of its members (Northwest Airlines, Inc.,), states that the work hours necessary to do the proposed replacement are substantially more than the 12 work hours specified in the NPRM. The ATA indicates that this disparity may cause some affected operators to accomplish the proposed replacement during unplanned, dedicated maintenance visits. Northwest Airlines, Inc., notes that the service bulletins in table 1 of the NPRM specify 84 total hours to do the proposed replacement. They also notes that it took 162 hours to modify one of their airplanes. They also state that the main driver for the long hours was the enormous functional check for all of the disturbed systems and signals when replacing certain panels.

We infer that the ATA and Northwest Airlines, Inc., are requesting that we revise the work hour estimate under “Costs of Compliance” in the NPRM. We do not agree. The work hour estimate describes only the direct costs of the replacement required by this AD. Based on the best data available, the manufacturer provided the number of work hours (12) necessary to do the required replacement. This number represents the time necessary to perform only the replacement actually required by this AD. We recognize that, in doing the actions required by an AD, operators may incur other costs in addition to the direct costs. The cost analysis in AD rulemaking actions, however, typically does not include those costs (such as the time required to gain access and close up, time necessary for planning and scheduling, tests, and time necessitated by other administrative actions). Those costs, which may vary significantly among operators, are almost impossible to calculate. Therefore, we have not changed this AD regarding this issue.

Clarification of Alternative Method of Compliance (AMOC) Paragraph

We have revised this action to clarify the appropriate procedure for notifying the principal inspector before using any approved AMOC on any airplane to which the AMOC applies.

Conclusion

We have carefully reviewed the available data, including the comments received, and determined that air safety and the public interest require adopting the AD with the change described previously. We have determined that this change will neither increase the economic burden on any operator nor increase the scope of the AD.

Costs of Compliance

There are about 19 airplanes of the affected design in the worldwide fleet. This AD will affect about 13 airplanes of U.S. registry. The required actions will take about 12 work hours per airplane, at an average labor rate of $65 per work hour. Required parts will cost about $252,834 per airplane. Based on these figures, the estimated cost of this AD for U.S. operators is $3,296,982, or $253,614 per airplane. However, we have confirmed with the airplane manufacturer that warranty remedies may be available for all affected airplanes. The manufacturer may cover the cost of replacement parts and labor costs associated with this AD, subject to warranty conditions. As a result, the costs attributable to this AD may be less than stated above.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-07-24 Boeing: Amendment 39-14551. Docket No. FAA-2005-20688; Directorate Identifier 2004-NM-165-AD.

Effective Date

(a) This AD becomes effective May 16, 2006.

Affected ADs

(b) None.

Applicability

(c) This AD applies to airplanes listed in Table 1 of this AD, certificated in any category.

Table 1.—Applicability
Boeing model | As listed in Boeing Special Attention Service Bulletin—
(1) 757-200 series airplanes | 757-24-0092, dated January 9, 2003.
(2) 757-300 series airplanes | 757-24-0095, dated January 9, 2003.

Unsafe Condition

(d) This AD was prompted by a report of some loose wire terminations in the P50 panel that caused intermittent indications in the flight deck. We are issuing this AD to prevent intermittent indications in the flight deck, incorrect circuitry operation in the panels, and airplane system malfunctions that may adversely affect the alternate flaps, alternate gear extension, and fire extinguishing.

Compliance

(e) You are responsible for having the actions required by this AD performed within the compliance times specified, unless the actions have already been done.

Replacements

(f) Within 24 months after the effective date of this AD, replace the P1-1, P1-3, P3-1, P3-3, P50, P51, and P54 panels with new P1-1, P1-3, P3-1, P3-3, P50, P51, and P54 panels, in accordance with the Accomplishment Instructions of the applicable service bulletin listed in Table 1 of this AD.

Alternative Methods of Compliance (AMOCs)

(g)(1) The Manager, Seattle Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(h) You must use Boeing Special Attention Service Bulletin 757-24-0092, dated January 9, 2003; or Boeing Special Attention Service Bulletin 757-24-0095, dated January 9, 2003; as applicable; to perform the actions that are required by this AD, unless the AD specifies otherwise. The Director of the Federal Register approved the incorporation by reference of these documents in accordance with 5 U.S.C. 552(a) and 1 CFR part 51. Contact Boeing Commercial Airplanes, P.O. Box 3707, Seattle, Washington 98124-2207, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal-register/cfr/ibr-locations.html.

Issued in Renton, Washington, on March 31, 2006.
Ali Bahrami,
Manager, Transport Airplane Directorate, Aircraft Certification Service.

[FR Doc. 06-3377 Filed 4-10-06; 8:45 am]

BILLING CODE 4910-13-P